DEPARTMENT OF ENERGY

Federal Energy Regulatory Commission

Combined Notice Of Filings #2

Take notice that the Commission received the following electric rate filings:

Docket Numbers: ER13-342-003.

Applicants: CPV Shore, LLC.

Description: Notice of Non-Material Change in Status of CPV Shore, LLC.

Filed Date: 1/23/14.

Accession Number: 20140123-5198.

Comments Due: 5 p.m. ET 2/13/14.

Docket Numbers: ER14-793-001.

Applicants: The Empire District Electric Company.

Description: Supplement to MBR to be effective 3/1/2014.

Filed Date: 1/24/14.

Accession Number: 20140124-5079.

Comments Due: 5 p.m. ET 2/14/14.

Docket Numbers: ER14-1145-000.

Applicants: PJM Interconnection, L.L.C.

Description: Request for Waiver, Shortened Comment Period and Expedited Commission Action of PJM Interconnection, L.L.C.

Filed Date: 1/23/14.

Accession Number: 20140123-5174.

Comments Due: 5 p.m. ET 1/30/14.

Docket Numbers: ER14-1149-000.

Applicants: Midcontinent Independent System Operator, Inc.

Description: 2014-01-24_SA 865 Entergy Big Cajun 2 Succession Filing to be effective 12/19/2013.

Filed Date: 1/24/14.

Accession Number: 20140124-5134.

Comments Due: 5 p.m. ET 2/14/14.

Docket Numbers: ER14-1149-001.

Applicants: Midcontinent Independent System Operator, Inc.

Description: Midcontinent Independent System Operator, Inc. submits tariff filing per 35.17(b): 2014-01-24_SA 865 Entergy Big Cajun 2 v32 Succession Amendment to be effective 12/19/2013.

Filed Date: 1/24/14.

Accession Number: 20140124-5144.

Comments Due: 5 p.m. ET 2/14/14.

Docket Numbers: ER14-1150-000.

Applicants: Powerex Corp.

Description: Powerex Corp. submits tariff filing per 35.13(a)(2)(iii: Amendment to Powerex Corp. Rate Schedule No. 5 to be effective 6/1/2013.

Filed Date: 1/24/14.

Accession Number: 20140124-5142.

Comments Due: 5 p.m. ET 2/14/14.

Take notice that the Commission received the following electric securities filings:

Docket Numbers: ES14-23-000.

Applicants: Ameren Services Company.

Description: Application for Authorization under Federal Power Act Section 204 of Ameren Services Company on behalf of Union Electric Company.

Filed Date: 1/23/14.

Accession Number: 20140123-5201.

Comments Due: 5 p.m. ET 2/13/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2014.
Nathaniel J. Davis, Sr.,
Deputy Secretary.

[FR Doc. 2014-02053 Filed 1-30-14; 8:45 am]

BILLING CODE 6717-01-P